ENVIRONMENTAL PROTECTION AGENCY

40 CFR Part 81

[EPA-HQ-OAR-2013-0694; FRL-9917-96-Region 2]

Identification of Nonattainment Classification and Deadlines for Submission of State Implementation Plan (SIP) Provisions for the 1997 Fine Particle (PM2.5) National Ambient Air Quality Standard (NAAQS) and 2006 PM2.5 NAAQS; Correction

AGENCY: Environmental Protection Agency (EPA).

ACTION: Correcting amendments.

SUMMARY: The Environmental Protection Agency (EPA) published a final rule in the Federal Register on Monday, June 2, 2014, updating regulations for the 1997 and 2006 PM2.5 NAAQS nonattainment areas. Errors in the tables for the New York 1997 Annual PM2.5 NAAQS and the New York 2006 24-hour PM2.5 NAAQS are identified and corrected in this action.

DATES: This final rule is effective on October 28, 2014.

FOR FURTHER INFORMATION CONTACT: Kenneth Fradkin (Fradkin.kenneth@epa.gov), Air Programs Branch, 290 Broadway, 25th Floor, New York, New York 10007-1866, (212) 637-3702.

SUPPLEMENTARY INFORMATION: EPA published a final rule document on June 2, 2014 (79 FR 31566) updating 40 CFR part 81, “Designation of Areas for Air Quality Planning Purposes” for the 1997 and 2006 PM2.5 NAAQS nonattainment areas. This final rule included revisions to 40 CFR 81.333 to remove the tables titled “New York-PM2.5 (Annual NAAQS)” and “New York-PM2.5 (24-hour NAAQS)” and to add three tables titled “New York-1997 Annual PM2.5 NAAQS (Primary and Secondary)” and “New York-1997 24-hour PM2.5 NAAQS (Primary and Secondary)” and “New York-2006 24-hour PM2.5 NAAQS (Primary and Secondary)”. The entries for the New York-N. New Jersey-Long Island, NY-NJ-CT designated area in the New York-1997 Annual PM2.5 NAAQS table, and the New York-2006 24-hour PM2.5 NAAQS table erroneously indicated that the areas were designated as nonattainment when, in fact, the areas had been redesignated to attainment status on April 18, 2014. 79 FR 21857. The entries for the New York-N. New Jersey-Long Island, NY-NJ-CT, designated area for Bronx County, Kings County, Nassau County, New York County, Orange County, Queens County, Richmond County, Rockland County, Suffolk County, and Westchester County should be listed with a designation date “4/18/14” and designation type of “Attainment.” The classification date and type should be blank.

List of Subjects in 40 CFR Part 81

Environmental protection, Air pollution control, National Parks, Wilderness areas.

Dated: October 20, 2014.
Judith A. Enck,
Regional Administrator, Region 2.

40 CFR part 81 is corrected by making the following correcting amendments:

PART 81—DESIGNATION OF AREAS FOR AIR QUALITY PLANNING PURPOSES

1. The authority citation for part 81 continues to read as follows:

Authority: 42 U.S.C. 7401 et seq.

2. Section 81.333 is amended by:

a. Amending the table entitled “New York—1997 Annual PM2.5 NAAQS (Primary and secondary)” by:

i. Removing from under the column entitled “Classification” the word “Date ¹” and adding “Date” in its place;

ii. Revising the entries under “New York-N. New Jersey-Long Island, NY-NJ-CT”; and

iii. Removing “Footnote 2” after “Footnote 1” after the table.

b. Amending the table entitled “New York—2006 24-HOUR PM2.5 NAAQS (Primary and secondary)” by:

i. Removing from under the column entitled “Classification” the text “Date ²” and adding “Date” in its place;

ii. Revising the entries under “New York-N. New Jersey-Long Island, NY-NJ-CT”; and

iii. Removing “Footnote 2” after “Footnote 1” after the table.

The revisions read as follows:

§ 81.333 New York.

* * * * *

New York—1997 Annual PM2.5 NAAQS
[Primary and secondary]
Designated area | Designation ᵃ: Date ¹ | Designation ᵃ: Type | Classification: Date | Classification: Type
New York-N. New Jersey-Long Island, NY-NJ-CT:
Bronx County | 4/18/14 | Attainment
Kings County | 4/18/14 | Attainment
Nassau County | 4/18/14 | Attainment
New York County | 4/18/14 | Attainment
Orange County | 4/18/14 | Attainment
Queens County | 4/18/14 | Attainment
Richmond County | 4/18/14 | Attainment
Rockland County | 4/18/14 | Attainment
Suffolk County | 4/18/14 | Attainment
Westchester County | 4/18/14 | Attainment
* * * * * * *
ᵃ Includes Indian Country located in each county or area, except as otherwise specified.
¹ This date is 90 days after January 5, 2005, unless otherwise noted.

* * * * *

New York—2006 24-HOUR PM2.5 NAAQS
[Primary and secondary]
Designated area | Designation ᵃ: Date ¹ | Designation ᵃ: Type | Classification: Date | Classification: Type
New York-N. New Jersey-Long Island, NY-NJ-CT:
Bronx County | 4/18/14 | Attainment
Kings County | 4/18/14 | Attainment
Nassau County | 4/18/14 | Attainment
New York County | 4/18/14 | Attainment
Orange County | 4/18/14 | Attainment
Queens County | 4/18/14 | Attainment
Richmond County | 4/18/14 | Attainment
Rockland County | 4/18/14 | Attainment
Suffolk County | 4/18/14 | Attainment
Westchester County | 4/18/14 | Attainment
* * * * * * *
ᵃ Includes Indian Country located in each county or area, except as otherwise specified.
¹ This date is 30 days after November 13, 2009, unless otherwise noted.

* * * * *

[FR Doc. 2014-25595 Filed 10-27-14; 8:45 am]

BILLING CODE 6560-50-P